NATIONAL AERONAUTICS AND SPACE ADMINISTRATION

[Notice (01-080)]

NASA Advisory Council (NAC), Space Science Advisory Committee (SScAC), Structure and Evolution of the Universe Subcommittee

AGENCY: National Aeronautics and Space Administration.

ACTION: Notice of Meeting.

SUMMARY: In accordance with the Federal Advisory Committee Act, Pub. L. 92-463, as amended, the National Aeronautics and Space Administration announces a meeting of the NASA Advisory Council, Space Science Advisory Committee, Structure and Evolution of the Universe Subcommittee.

DATES: Tuesday, July 10, 2001, 8:30 a.m. to 5:30 p.m., and Wednesday, July 11, 2001, 8:30 a.m. to 5 p.m.

ADDRESS: National Aeronautics and Space Administration, Conference Room 7H46, 300 E Street, SW, Washington, DC 20546.

FOR FURTHER INFORMATION CONTACT: Dr. Alan Bunner, Code S, National Aeronautics and Space Administration, Washington, DC 20546, (202) 358-2150.

SUPPLEMENTARY INFORMATION: The meeting will be open to the public up to the capacity of the room. The agenda for the meeting is as follows:

—Associate Administrator's Program Status Report

—Report on the Structure and Evolution of the Universe Annual State of the Theme

—Future of Structure and Evolution of the Universe Subcommittee Membership

—Status of Astro-E2

—Internationalization of future x-ray missions

It is imperative that the meeting be held on these dates to accommodate the scheduling priorities of the key participants. Visitors will be requested to sign a visitors register.

June 19, 2001.
Beth M. McCormick,
Advisory Committee Management Officer, National Aeronautics and Space Administration.

[FR Doc. 01-15867 Filed 6-22-01; 8:45 am]

BILLING CODE 7510-01-P